DEPARTMENT OF TRANSPORTATION

Federal Aviation Administration

Premium War Risk Insurance

AGENCY: Federal Aviation Administration, DOT.

ACTION: Determination to allow for the provision of FAA Aviation Insurance.

SUMMARY: This notice contains the text of a memorandum from the Secretary of Transportation to the Administrator of the Federal Aviation Administration regarding the Provision of Aviation Insurance Coverage for U.S. Flag Commercial Air Carrier Service in Domestic and International Operations.

DATES: Dates of extension from August 31, 2005 through December 31, 2005.

FOR FURTHER INFORMATION CONTACT: Helen Kish, Program Analyst, AEP-20, 202-267-9943 or Eric Nelson, Program Analyst, AEP-20, 202-267-3090. Federal Aviation Administration, 800 Independence Ave., SW., Washington, DC 20591.

SUPPLEMENTARY INFORMATION: On August 16, 2005, the Secretary of Transportation authorized the provision of aviation insurance by the Federal Aviation Administration for 122 days as follows:

MEMORANDUM FOR THE ADMINISTRATOR

Pursuant to the authority delegated to me by the President in Presidential Determination 2005-15 of December 21, 2004, I hereby make the determination and finding set forth in that Determination and extend the determination to allow for the provision of aviation insurance and reinsurance coverage for U.S. flag commercial air carrier service in domestic and international operations through December 31, 2005.

Pursuant to section 44306(c) of Chapter 443 of 49 U.S.C., Aviation Insurance, the period for provision of insurance shall be extended from August 31, 2005, through December 31, 2005.

/s/ Normal Y. Mineta

Affected Public: Air Carriers who currently have premium war risk insurance with the Federal Aviation Administration.

Issued in Washington, DC on August 17, 2005.
John M. Rodgers,
Director, Aviation Insurance Program Office.

[FR Doc. 05-16790 Filed 8-23-05; 8:45 am]

BILLING CODE 4910-13-M